DEPARTMENT OF TRANSPORTATION

Federal Aviation Administration

14 CFR Part 39

[Docket No. FAA-2009-0864; Directorate Identifier 2008-NM-202-AD]

RIN 2120-AA64

Airworthiness Directives; Dassault Model Falcon 10 Airplanes; Model Fan Jet Falcon Airplanes; Model Mystere-Falcon 200 Airplanes; Model Mystere-Falcon 20-C5, 20-D5, 20-E5, and 20-F5 Airplanes; Model Falcon 2000 and Falcon 2000EX Airplanes; and Model Mystere-Falcon 50 and 900, and Falcon 900EX Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

During maintenance on one aircraft, it was discovered that the overpressure capsules were broken on both pressurization valves. Failure of the pressurization control regulating valve (overpressure capsule) will affect the aircraft's overpressure protection. * * *

* * * * *

The unsafe condition is overpressurization, which can result in injury to the occupants and possible structural failure leading to loss of control of the airplane. The proposed AD would require actions that are intended to address the unsafe condition described in the MCAI.

DATES: We must receive comments on this proposed AD by October 21, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Dassault Falcon Jet, P.O. Box 2000, South Hackensack, New Jersey 07606; telephone 201-440-6700; Internet http://www.dassaultfalcon.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2009-0864; Directorate Identifier 2008-NM-202-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0072, dated April 18, 2008 (referred to after this as “the MCAI”), to correct an unsafe condition for the specified products. The MCAI states:

During maintenance on one aircraft, it was discovered that the overpressure capsules were broken on both pressurization valves. Failure of the pressurization control regulating valve (overpressure capsule) will affect the aircraft's overpressure protection, possibly resulting in a structural failure in case of combination with another pressurization system failure. Consequently, Dassault Aviation has developed a repetitive check of this outflow valve capsule, which has already been introduced into the Maintenance of Components section (chapter 5-20) of the relevant Aircraft Maintenance Manuals (AMM).

For the reason described above, this EASA [European Aviation Safety Agency] Airworthiness Directive (AD) requires a repetitive check of the outflow valve overpressure capsule, as it will also be introduced into the Airworthiness Limitations section (chapter 5-40) of the respective AMMs.

The unsafe condition is overpressurization, which can result in injury to the occupants and possible structural failure leading to loss of control of the airplane. Required actions include repetitive inspections for overpressure tightness on both regulating valves, and replacing the affected valve with a serviceable unit, if necessary. You may obtain further information by examining the MCAI in the AD docket.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Differences Between This AD and the MCAI or Service Information

We have reviewed the MCAI and, in general, agree with their substance. But we might have found it necessary to use different words from those in the MCAI to ensure the AD is clear for U.S. operators and is enforceable. In making these changes, we do not intend to differ substantively from the information provided in the MCAI.

We might also have proposed different actions in this AD from those in the MCAI in order to follow FAA policies. Any such differences are highlighted in a NOTE within the proposed AD.

Costs of Compliance

Based on the service information, we estimate that this proposed AD would affect about 1,082 products of U.S. registry. We also estimate that it would take about 1 work-hour per product to comply with the basic requirements of this proposed AD. The average labor rate is $80 per work-hour. Based on these figures, we estimate the cost of the proposed AD on U.S. operators to be $86,560, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Dassault Aviation (Formerly Avions Marcel Dassault-Breguet Aviation (AMD/BA)): Docket No. FAA-2009-0864; Directorate Identifier 2008-NM-202-AD.

Comments Due Date

(a) We must receive comments by October 21, 2009.

Affected ADs

(b) None.

Applicability

(c) This AD applies to the Dassault airplanes identified in paragraphs (c)(1) and (c)(2) of this AD, certificated in any category.

(1) Model Falcon 10 airplanes, Model Fan Jet Falcon airplanes, and Model Mystere-Falcon 20-C5, 20-D5, 20-E5, and 20-F5 airplanes, all serial numbers, equipped with Liebherr or ABG-Semca pressurization outflow valves.

(2) Model Mystere-Falcon 200 airplanes, Model Mystere-Falcon 50 and 900, and Falcon 900EX airplanes, and Model Falcon 2000 and Falcon 2000EX airplanes, all serial numbers.

Subject

(d) Air Transport Association (ATA) of America Code 21: Air Conditioning.

Reason

(e) The mandatory continuing airworthiness information (MCAI) states:

During maintenance on one aircraft, it was discovered that the overpressure capsules were broken on both pressurization valves. Failure of the pressurization control regulating valve (overpressure capsule) will affect the aircraft's overpressure protection, possibly resulting in a structural failure in case of combination with another pressurization system failure. Consequently, Dassault Aviation has developed a repetitive check of this outflow valve capsule, which has already been introduced into the Maintenance of Components section (chapter 5-20) of the relevant Aircraft Maintenance Manuals (AMM).

For the reason described above, this EASA [European Aviation Safety Agency] Airworthiness Directive (AD) requires a repetitive check of the outflow valve overpressure capsule, as it will also be introduced into the Airworthiness Limitations section (chapter 5-40) of the respective AMMs.

The unsafe condition is overpressurization, which can result in injury to the occupants and possible structural failure leading to the loss of control of the airplane. Required actions include repetitive inspections for overpressure tightness on both regulating valves, and replacing the affected valve with a serviceable unit, if necessary.

Actions and Compliance

(f) Unless already done, do the following actions.

(1) Within 6 months after the effective date of this AD, or before reaching the applicable time in the “Inspection Threshold” column specified in Table 1 of this AD, whichever occurs later, and thereafter at intervals not to exceed the applicable time in the “Inspection Interval” column specified in Table 1 of this AD: Inspect for overpressure tightness on both regulating valves using a method approved by either the Manager, International Branch, ANM-116, Transport Airplane Directorate, FAA; or the European Aviation Safety Agency (or its delegated agent).

Table 1—Compliance Times
Affected airplanes | Inspection threshold (whichever occurs later) |  | Inspection interval
Fan Jet Falcon, and Mystere-Falcon 20-C5, 20-D5, 20-E5, and 20-F5 equipped with Liebherr or ABG-Semca valves part number (P/N) 209xx0xxx0x; Mystere-Falcon 200; and | Prior to the accumulation of 1,250 total flight hours on the regulating valve since new | Within 1,250 flight hours after the valve was cleaned in accordance with this AD | 1,250 flight hours.
Falcon 10, equipped with Liebherr or ABG-Semca valves P/N 209xx0xxx0x.
Mystere-Falcon 50; Mystere-Falcon 900; and Falcon 900EX (including “F900EX-EASy” and “F900DX”) Falcon 2000 and Falcon 2000EX (including “F2000EX-EASy” and “F2000DX”) | Prior to the accumulation of 1,630 total flight hours on the regulating valve since new | Within 1,630 flight hours after the valve was cleaned in accordance with this AD | 1,630 flight hours.

Note 1: Guidance on inspecting for overpressure tightness on both regulating valves can be found in the applicable airplane maintenance manual identified in Table 2 of this AD.

Table 2—Maintenance Manual Guidance
For affected airplanes— | See Dassault maintenance procedure— | In maintenance manual—
Falcon 10, equipped with Liebherr or ABG-Semca valves P/N 209xx0xxx0x | 21-32-01, dated July 2007 | Dassault Falcon 10 Maintenance Manual.
Falcon 900EX (including “F900EX-EASy” and “F900DX”) | 21-314, dated March 2007 | Dassault Falcon 900EX EASy Maintenance Manual.
Falcon 2000 and Falcon 2000EX (including “F2000EX-EASy”) | 21-314, dated May 2007 | Dassault Falcon 2000EX Maintenance Manual.
Falcon F2000DX | 21-314, dated November 2007 | Dassault Falcon 2000DX Maintenance Manual.
Fan Jet Falcon, Mystere-Falcon 20-C5, 20-D5, 20-E5, and 20-F5; equipped with Liebherr or ABG-Semca valves part number (P/N) 209xx0xxx0x | 21-31-10, dated October 2007 | Dassault Fan Jet Falcon Maintenance Manual.
Mystere-Falcon 50 | 21-160, dated July 2007 | Dassault Falcon 50/50EX Maintenance Manual.
Mystere-Falcon 200 | 051.0, dated December 2007 | Dassault Falcon 200 Maintenance Manual.
Mystere-Falcon 900 | 21-308, dated April 2007 | Dassault Falcon 900 Maintenance Manual.

(2) If any leak is found during any inspection required by paragraph (f)(1) of this AD, before further flight, replace the affected valve with a serviceable unit, using a method approved by either the Manager, International Branch, ANM-116, Transport Airplane Directorate, FAA; or the EASA (or its delegated agent).

Note 2: Guidance on replacing regulating valves can be found in the applicable airplane maintenance manual identified in Table 2 of this AD.

FAA AD Differences

Note 3: This AD differs from the MCAI as follows: Although the MCAI, in paragraph (3) of the compliance section, allows flight after leaks are found in accordance with the master minimum equipment list (MMEL) provisions, paragraph (f)(2) of this AD requires replacing affected valves before further flight.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0072, dated April 18, 2008, for related information.

Issued in Renton, Washington, on September 11, 2009.
Stephen P. Boyd,
Acting Manager, Transport Airplane Directorate, Aircraft Certification Service.

[FR Doc. E9-22576 Filed 9-18-09; 8:45 am]

BILLING CODE 4910-13-P